DEPARTMENT OF ENERGY

Federal Energy Regulatory Commission

Combined Notice of Filings #2

Take notice that the Commission received the following electric rate filings:

Docket Numbers: ER10-2172-006; ER10-2174-006; ER10-2176-006; ER10-2180-006; ER10-2178-006; ER10-2192-006; ER10-2184-006; ER10-1734-003.

Applicants: Constellation Energy Commodities Group, Baltimore Gas and Electric Company, Constellation Power Source Generation LLC, Handsome Lake Energy, LLC, Constellation Energy Commodities Group Maine, LLC, CER Generation, LLC, Constellation NewEnergy, Inc., MXenergy Electric Inc.

Description: Constellation MBR Entities Triennial Market Power Analysis for the Southeast Region.

Filed Date: 12/27/11.

Accession Number: 20111227-5060.

Comments Due: 5 p.m. ET 2/27/12.

Docket Numbers: ER10-2179-007; ER10-2181-007; ER10-2182-007.

Applicants: R.E. Ginna Nuclear Power Plant, LLC, Nine Mile Point Nuclear Station, LLC, Calvert Cliffs Nuclear Power Plant, LLC.

Description: Constellation Nuclear Entities Triennial Market Power Analysis for the Southeast Region.

Filed Date: 12/27/11.

Accession Number: 20111227-5043.

Comments Due: 5 p.m. ET 2/27/12.

Docket Numbers: ER12-694-000.

Applicants: PacifiCorp.

Description: PacifiCorp's termination of SA 537 Maintenance Agreement with Tasco Engineering, Inc.

Filed Date: 12/27/11.

Accession Number: 20111227-5051.

Comments Due: 5 p.m. ET 1/17/12.

Docket Numbers: ER12-695-000.

Applicants: Northern Indiana Public Service Company.

Description: Filing to Bring Accepted WVPA Interconnection Agreement into eTariff to be effective 12/27/2011.

Filed Date: 12/27/11.

Accession Number: 20111227-5064.

Comments Due: 5 p.m. ET 1/17/12.

Docket Numbers: ER12-696-000.

Applicants: Northern Indiana Public Service Company.

Description: Supplement to Wabash Valley Power Association Interconnection Agreement to be effective 12/28/2011.

Filed Date: 12/27/11.

Accession Number: 20111227-5069.

Comments Due: 5 p.m. ET 1/17/12.

Docket Numbers: ER12-697-000.

Applicants: PJM Interconnection, L.L.C.

Description: PJM Interconnection, L.L.C. submits tariff filing per 35.13(a)(2)(iii: Original Service Agreement No. 3160; Queue No. X1-032 to be effective 12/1/2011.

Filed Date: 12/27/11.

Accession Number: 20111227-5074.

Comments Due: 5 p.m. ET 1/17/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2011.
Nathaniel J. Davis, Sr.,
Deputy Secretary.

[FR Doc. 2011-33725 Filed 1-3-12; 8:45 am]

BILLING CODE 6717-01-P